DEPARTMENT OF ENERGY

Federal Energy Regulatory Commission

[Docket No. RP02-114-005]

Tennessee Gas Pipeline Company; Notice of Compliance Tariff Filing and Refund Plan

February 26, 2004.

Take notice that on February 23, 2004, Tennessee Gas Pipeline Company, (Tennessee) tendered for filing as part of its FERC Gas Tariff, Fifth Revised Volume No. 1, the tariff sheets attached as Appendix A to the filing, with an effective date of March 24, 2004, and a revised refund plan attached as Appendix B.

Tennessee states that the revised tariff sheets and refund plan are being filed in accordance with the Commission's December 24, 2003, Order in the referenced proceeding, which relates to Tennessee's Cashout Report for the period from September 2000 through August 2001.

Any person desiring to protest said filing should file a protest with the Federal Energy Regulatory Commission, 888 First Street, NE., Washington, DC 20426, in accordance with section 385.211 of the Commission's rules and regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: March 8, 2004.

Magalie R. Salas,
Secretary.

[FR Doc. E4-440 Filed 3-2-04; 8:45 am]

BILLING CODE 6717-01-P